DEPARTMENT OF ENERGY

Federal Energy Regulatory Commission

Notice of Non-Project Use of Project Lands and Waters and Soliciting Comments, Motions to Intervene, and Protests

August 29, 2002.

Take notice that the following application has been filed with the Commission and is available for public inspection:

a. Application Type: Non-Project Use of Project Lands and Waters.

b. Project No: 2503-068.

c. Date Filed: May 28, 2002.

d. Applicant: Duke Energy Corporation.

e. Name of Project: Keowee-Toxaway Hydroelectric Project.

f. Location: On Lake Keowee at The Cliffs at Keowee Vineyards Subdivision in Pickens County, South Carolina. The project does not utilize federal or tribal lands.

g. Filed Pursuant to: Federal Power Act, 16 U.S.C. 791(a)-825(r).

h. Applicant Contact: Mr. E.M. Oakley, Duke Energy Corporation, PO Box 1006 (EC12Y), Charlotte, NC 28201-1006. Phone: (704) 382-5778

i. FERC Contact: Any questions on this notice should be addressed to Brian Romanek at (202) 502-6175, or e-mail address: brian.romanek@ferc.gov.

j. Deadline for filing comments and motions: September 30, 2002.

All documents (original and eight copies) should be filed with: Magalie R. Salas, Secretary, Federal Energy Regulatory Commission, 888 First Street, NE., Washington, DC 20426. Comments, protests, and interventions may be filed electronically via the Internet in lieu of paper; see 18 CFR 385.2001(a)(1)(iii) and the instructions on the Commission's Web site under the “e-Filing” link. The Commission strongly encourages electronic filings. Please include the noted project numbers on any comments or motions filed.

k. Description of Proposal: Duke Energy Corporation proposes to permit The Cliffs at Keowee Vineyards Subdivision to excavate about 3,300 cubic yards of sediment material from the bottom of Lake Keowee in an area about 785 feet in length, 49 feet in width, and 2.3 feet in depth. The total disturbed area would be 1.21 acres of lake bottom. The purpose of this excavation is to provide safe access to the previously approved cluster dock facilities serving the subdivision. Presently, boat access during periods of low water level is difficult.

l. Location of Application: This filing is available for review at the Commission in the Public Reference Room or may be viewed on the Commission's Web site at http://www.ferc.gov using the “FERRIS” link. Enter the docket number excluding the last three digits in the docket number field to access the document. For Assistance, call (202) 502-8222 or for TTY, (202) 208-1659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Linwood A. Watson, Jr.,
Deputy Secretary.

[FR Doc. 02-22663 Filed 9-4-02; 8:45 am]

BILLING CODE 6717-01-P